DEPARTMENT OF TRANSPORTATION

Federal Aviation Administration

Aviation Rulemaking Advisory Committee Meeting on Occupant Safety Issues

AGENCY: Federal Aviation Administration (FAA), DOT.

ACTION: Notice of public meeting.

SUMMARY: This notice announces a public meeting of the FAA's Aviation Rulemaking Advisory Committee (ARAC) to discuss occupant safety issues.

DATES: The meeting is scheduled for March 29, 2001, beginning at 8:30 a.m. Arrange for oral presentations by March 16.

ADDRESSES: Department of Transportation, 400 7th Street SW., Room 3328, Washington, DC.

FOR FURTHER INFORMATION CONTACT: Effie M. Upshaw, Office of Rulemaking ARM-209, FAA, 800 Independence Avenue, SW., Washington, DC 20591, Telephone (202) 267-7626, FAX (202) 267-5075, or e-mail at effie.upshaw@faa.gov.

SUPPLEMENTARY INFORMATION: Pursuant to section 10(a)(2) of the Federal Advisory Committee Act (Pub. L. 92-463; 5 U.S.C. app. III), notice is given of an ARAC meeting to be held March 29 in Washington, DC.

The agenda will include:

• Opening Remarks

• FAA Report

• Joint Aviation Authorities Report

• Transport Canada Report

• Executive Committee Report

• Cabin Safety Harmonization Working Group Report

Attendance is open to the public, but will be limited to the availability of meeting room space and telephone lines. Details for participating in the teleconference will be available after March 19 by contacting the person listed in the FOR FURTHER INFORMATION CONTACT section. Callers outside the Washington metropolitan area will be responsible for paying long distance charges.

The public must make arrangements by March 16 to present oral statements at the meeting. Written statements may be presented to the committee at any time by providing 25 copies to the Assistant Executive Director for Occupant Safety issues or by providing copies at the meeting. Copies of the documents to be presented to ARAC for decision or as recommendations to the FAA may be made available by contacting the person listed under the heading FOR FURTHER INFORMATION CONTACT.

If you are in need of assistance or require a reasonable accommodation for the meeting or meeting document, please contact the person listed under the heading FOR FURTHER INFORMATION CONTACT. Sign and oral interpretation, as well as listening device, can be made available if requested 10 calendar days before the meeting.

Issued in Washington, DC on March 7, 2001.
Tony F. Fazio,
Director, Office of Rulemaking.

[FR Doc. 01-6234 Filed 3-12-01; 8:45 am]

BILLING CODE 4910-13-M